DEPARTMENT OF THE INTERIOR

National Park Service

60-Day Notice of Intention To Request Clearance of Collection of Information; Opportunity for Public Comment

AGENCY: Department of the Interior, National Park Service.

ACTION: Notice and request for comments.

SUMMARY: The National Park Service (NPS) Volunteers-In-Parks (VIP) program (Pub. L. 91-357) is collecting information from volunteers in the form of a survey for the purposes of evaluating the program and its effectiveness. In order to effectively manage the increasing trend of volunteerism in the NPS, it is imperative that the agency assess its strengths and weaknesses and determine methods for improved efficiency. A servicewide volunteer program assessment has not been conducted to date. Current VIPs will be surveyed (mail-back/Internet-based questionnaire) during this process to collect information about the current status and needs of the program. In addition, follow-up focus groups (3 with up to 20 participants each) and telephone interviews (up to 40) will be conducted to acquire detailed data expanding on questionnaire results). Recommendations for improvements will be made based on the findings. This process will not only aid in creating an improved, streamlined program, but may also serve as a model for other Federal agencies.

| Estimated numbers of: Responses | Estimated numbers of: Burden hours
Volunteers-In-Parks Program Assessment | 6,100 | 1,630

Under provisions of the Paperwork Reduction Act of 1995 and 5 CFR part 1320, Reporting and Record Keeping Requirements, the NPS invites comments on the need for gathering the information in the proposed survey. Comments are invited on: (1) The practical utility of the information being gathered; (2) the accuracy of the burden hour estimate; (3) ways to enhance the quality, utility, and clarity of the information to be collected; and (4) ways to minimize the burden to respondents, including use of automated information collection techniques or other forms of information technology.

DATES: Public comments will be accepted on or before November 1, 2005.

Send Comments To: Joy M. Pietschmann, National Park Service, Servicewide Volunteer Program Coordinator, 1849 C Street NW., 2450, Washington, DC 20240.

FOR FURTHER INFORMATION CONTACT: Joy M. Pietschmann, 202-513-7141.

SUPPLEMENTARY INFORMATION: Title: National Park Service Volunteers-In-Parks Program Assessment.

OMB Number: To be requested.

Expiration Date: To be requested.

Type of Request: Request for new clearance.

Description of Need: The NPS Volunteers-In-Parks program is authorized by the Volunteers in the Parks Act of 1969 (16 U.S.C. 18g-18j). The Volunteers in the Parks Act of 1969 as originally enacted was Public Law 91-357. Volunteering is an American tradition that over the years has made an immeasurable contribution to communities, organizations, and individuals throughout the country. Volunteers are vital to the success of the NPS. The VIP program can accept and use voluntary help and services from the public, in a way that is mutually beneficial to the NPS and the volunteer. In FY2004 140,000 volunteers donated 5 million hours of service to their national parks at a value of $85.9 million. VIPs come from every state and many different countries to help preserve and protect America's natural and cultural heritage for the enjoyment of this and future generations. Over the past 35 years, this program has consistently grown to become one of the government's largest, most successful volunteer programs. Between FY2003 and 2004, the program experienced its biggest increase in history: The number of VIPs increased by 14% and the number of hours by 11%. In order to effectively manage the increasing trend of volunteerism in the NPS, it is imperative that the organization assess its strengths and weaknesses and determine methods for improved efficiency. A servicewide volunteer program assessment has not been conducted to date. Volunteers (6,000) will be surveyed during this process (mail-back/Internet-based questionnaire) to collect information about the current status and needs of the program. In addition, follow-up focus groups (3 with up to 20 participants each) and telephone interviews (up to 40) will be conducted to acquire detailed data expanding on questionnaire results). Results will be reported at the servicewide level, the regional level (seven NPS regions), and the volunteer work category level (to include, at minimum, work in the areas of interpretation, natural resource management, park maintenance, campground hosting, and cultural resource management). Recommendations for improvements will be made based on the findings. This process will not only aid in creating an improved, streamlined program, but may also serve as a model for other Federal agencies.

Automated data collection: This information will primarily be collected electronically through a designated, secure Web site. Non-automated methods (mail-back questionnaire) will be available for those without access to electronic means.

Description of respondents: National Park Service Volunteers-In-Parks.

Estimated average number of respondents: Approximately 6,100 respondents.

Estimated average number of responses: Approximately 6,100 responses.

Estimated average burden hours per response: One-quarter burden hour per response to the mail-back/internet-based questionnaire (≉6,000 responses); One and one-half burden hour for participants in the follow-up focus groups (≉60 responses); One burden hour for participants in the follow-up interviews (≉responses).

Frequency of Response: 1 time per respondent.

Estimated annual reporting burden: 1,630 hours.

Dated: July 19, 2005.
Leonard E. Stowe,
National Park Service Information Collection Clearance Officer.

[FR Doc. 05-17487 Filed 9-1-05; 8:45 am]

BILLING CODE 4312-52-P